DEPARTMENT OF THE TREASURY

Agreement for a Social Impact Partnership Project

AGENCY: Department of the Treasury.

ACTION: Notice.

SUMMARY: In accordance with the Social Impact Partnerships to Pay for Results Act (“SIPPRA”), the U.S. Department of the Treasury (“Treasury”) and Oklahoma Office of Management and Enterprise Services (“Oklahoma”) have entered into an agreement for a social impact partnership project (the “Project Grant Agreement”).

SUPPLEMENTARY INFORMATION: The Project Grant Agreement contains the following features:

(1) The outcome goals of the social impact partnership project: The Women in Recovery (“WIR”) Pay for Success Project seeks to demonstrate stable employment and improved child welfare outcomes (reduced foster care involvement and contact with child protection services) for the target population.

(2) A description of each intervention in the project: WIR is an intensive alternative to incarceration for women facing long-term prison sentences for non-violent offenses. WIR is specifically designed to address the complex needs and risks of justice-involved women. The program combines best practices from the mental health and criminal justice fields as well as the integration of gender-specific best practices and treatment models to reduce female incarceration. Experienced and trained professional staff provide an array of intensive evidence-based treatment and best practice comprehensive support and wraparound services within a three-phase, daily program structure. In addition to gender-specific treatment models, specialized program components address issues impacting women, including domestic violence, trauma, self-sufficiency, family reunification, parenting and children's issues.

(3) The target population that will be served by the project: WIR targets justice-involved females 18 years old or older with substance use disorders, who are prison-bound and ineligible for other Tulsa County diversion programs.

(4) The expected social benefits to participants who receive the intervention and others who may be impacted: WIR helps women conquer drug addiction, recover from trauma and acquire essential economic, emotional and social tools to build successful and productive lives, thus improving public safety and reducing recidivism while generating federal, state, and local financial value. With a focus on improving the lives of at-risk women and their children, WIR also seeks to break the cycle of intergenerational incarceration by strengthening and reuniting WIR mothers and their children.

(5) The detailed roles, responsibilities, and purposes of each Federal, State, or local government entity, intermediary, service provider, independent evaluator, investor, or other stakeholder:

Recipient. Oklahoma is the recipient, fiscal agent, and lead data sharing partner in the project.

Service Provider. Family & Children's Services (“F&CS”) will deliver all the services for WIR. F&CS has a mission to promote, support and strengthen the well-being and behavioral health of adults, children and families. F&CS works closely with the criminal justice system and various community partners to ensure program participants receive supervision, substance abuse and mental health treatment, comprehensive case management, education, workforce readiness training and family reunification services. F&CS will collect, store, analyze, and share program-related data as needed for the independent evaluation, and will be the recipient of investor up-front capital funding for the project. F&CS will also be the recipient of all federal outcome payments earned through verification by the independent evaluation of value to the federal government.

Investor. The George Kaiser Family Foundation (“GKFF”) is the primary upfront private investor for WIR. GKFF, in conjunction with other public/private sources, intends to provide F&CS with the annual capital to fund the delivery of WIR services.

Evaluator. WestEd, a nonpartisan, nonprofit research, development, and service agency, will serve as the external independent evaluator for the project. WestEd will design and implement the evaluation, measure the impact and value of the WIR program across all outcome measures, report the results to all entities of the project, and verify the value to the federal government for the purposes of federal outcome payments.

(6) The payment terms, the methodology used to calculate outcome payments, the payment schedule, and performance thresholds: The project has two outcome domains, employment and child welfare, and will deliver services to two different cohorts. If the project is successful, four payments will be made in total, two for each cohort. For each cohort a payment will be made for outcomes achieved at 18 months post-enrollment and a second payment will be made for outcomes achieved at 30 months post-enrollment. The 30-month outcomes will only look at impact that occurred since the 18-month time point, as federal outcome payments will have already been realized for impact that occurred during the first 18 months. Each cohort will be eligible for one payment for each outcome domain: Employment and child welfare. Each outcome valuation will be conducted independently, and the realization of outcome payments related to one outcome domain will not be contingent on the results from any other outcome domain.

For child welfare, the independent evaluation will compare the results of the treatment group to the results of the comparison group and only validate a request for outcome payments for the level of success and federal value achieved within the identified range.

To calculate the outcome payment for federal value for the employment outcome, the independent evaluator will take the estimate of the increase in wages from the treatment and calculate the resulting federal value.

(7) The project budget:

| Sources | Uses
8.1 Public & private grant funding | $6,997,594 |
8.2 State outcome payments | 6,419,828 |
8.3 Investor (GKFF) | 12,326,544 |
8.4 Service provider cost (F&CS WIR) |  | $25,743,966
8.5 Federal outcome payments | 3,367,085 |
8.6 WIR Sustainability |  | 3,367,085
8.7 Federal evaluation funding | 505,063 |
8.8 Evaluator Budget |  | 505,063
8.9 Intermediary | 0 | 0
Total | 29,616,114 | 29,616,114

(8) The project timeline:

(9) The project eligibility criteria: All participants are women with substance abuse issues who are at imminent risk for incarceration and ineligible for other drug or mental health court and jail diversion programs. All eligible women receive a standardized, gender-specific risk assessment to determine their risk, needs and treatment readiness. WIR then advocates and collaborates with the local prosecutor, court services and judges to make a final decision on admission to the WIR program. All participants must be able, emotionally and mentally, to receive services in an outpatient environment, voluntarily consent to services and work collaboratively with the treatment team under a comprehensive treatment plan.

(10) The evaluation design: WestEd will lead a quasi-experiment matched comparison study using logistic regression and ordinary least squares regression. The proposed project, evaluation methods, and anticipated outcomes are designed in a way to produce rigorous evidence that participant outcomes are not due to random chance or some other observable force. The reliance on state and local administrative data sources reduced (essentially removes) the chance that outcome measures can be manipulated by service providers, intermediaries, or investors. To further mitigate this chance, WestEd will include a number of steps to ensure the independence and integrity of the evaluation process.

(11) The metrics that will be used in the evaluation to determine whether the outcomes have been achieved as a result of each intervention and how these metrics will be measured: The project will be evaluated using a quasi-experimental design study. The treatment group shall consist of individuals who have been enrolled in the WIR program. The control group shall be a matched comparison group, consisting of female prison receptions and releases outside of Tulsa County who did not receive WIR or other comparable services. The results of the treatment group will be compared to the results of the comparison group across all outcome measures.

(12) The estimate of the savings to the Federal, State, and local government, on a program-by-program basis and in the aggregate, if the agreement is entered into and implemented and the outcomes are achieved as a result of each intervention:

Federal Savings: $3,367,085.

Oklahoma expects state and local savings to be realized by reduced public sector costs related to incarceration, parole supervision, homelessness, and child welfare. Oklahoma also expects an increase in tax revenue and contributions to the local economy.

Catherine Wolfram,
Deputy Assistant Secretary for Climate and Energy Economics, Office of Economic Policy.

[FR Doc. 2022-04412 Filed 3-2-22; 8:45 am]

BILLING CODE 4810-AK-P